DEPARTMENT OF AGRICULTURE

Forest Service

Notice of New Fee Site; Federal Lands Recreation Enhancement Act (Title VIII, Pub. L. 108-447)

AGENCY: Tongass National Forest, USDA Forest Service

ACTION: Notice of new fee site.

SUMMARY: The Tongass National Forest is proposing to charge a $75 fee for the overnight rental of the Deep Bay Cabin. This facility is available for recreation use through the National Recreation Reservation Service, at www.recreation.gov. The Forest has decided to offer the cabin, through www.recreation.gov prior to charging a rental fee. Public feedback based on cabin rentals in the Alaska Region have consistently demonstrated that people appreciate and enjoy the availability of rental cabins. Funds from the rental will be used for the continued operation and maintenance of the facilities. The cabin rental fee is only proposed and will be determined upon further analysis and public comment.

DATES: Public comment on the proposal for Deep Bay Cabin to begin charging a rental fee will be received through December 2016. Starting in January 2017 comments will be compiled, analyzed and shared with the Alaska Region Fee Board. Should the fee proposal move forward, the rental rate of $75 per night will likely begin in February 2017.

ADDRESSES: Forest Supervisor, Tongass National Forest, 648 Mission Street, Ketchikan, AK 99901.

FOR FURTHER INFORMATION CONTACT: Lisa Fluharty, Recreation Fee Coordinator, (907) 228-6331.

SUPPLEMENTARY INFORMATION: The Federal Recreation Lands Enhancement Act (Title VII, P.L. 108-447) directed the Secretary of Agriculture to publish a six month advance notice in the Federal Register whenever new recreation fee areas are established. This new fee will be reviewed by the Alaska Region Fee Board prior to a final decision and implementation.

The Tongass National Forest provides multiple cabins located in a variety of forest environments ranging from ocean shore, lakeshore, to mountain and alpine settings. These cabins serve as a base camp for forest visitors for hiking, hunting, fishing, OHV riding and nature touring activities. These cabins are important for access and maintaining traditional recreation activities, including subsistence hunting and fishing.

The Deep Bay Cabin is fully accessible and includes a wheelchair ramp from the parking lot to the cabin. It is a large group cabin and can accommodate up to 12 people. It consists of two buildings connected by a large deck which is partially covered. Each building has sleeping rooms and a common room. There are oil stoves for heat (not cooking). There is a small storage shed, an outside fire grill, and outhouse. It is a simple facility, with no electricity, trash service or running water. The cabin is located near Deep Bay on Zarembo Island. It is accessible year-around by float plane or boat.

A cabin rental analysis performed in 2015 for the cabins in the Alaska Region has shown that people desire having this type of recreation experience on the Tongass National Forest. The proposed $75 per night cabin rental fee for Deep Bay Cabin is consistent with the fee charged at the only other large group cabin on the Tongass National Forest and is both reasonable and acceptable for this sort of unique recreation experience. People interested in renting the facility will need to go through the National Recreation Reservation Service, at www.recreation.gov or by calling 1-877-444-6777. The National Recreation Reservation Service charges a $9 fee for online reservations and a $10 fee for phone in reservations.

Dated: August 11, 2016.
M. Earl Stewart,
Forest Supervisor, Tongass National Forest.

[FR Doc. 2016-19714 Filed 8-17-16; 8:45 am]

BILLING CODE 3411-15-P